DEPARTMENT OF VETERANS AFFAIRS

[OMB Control No. 2900-0074]

Agency Information Collection Activity Under OMB Review: Request for Change of Program or Place of Training

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0074.

FOR FURTHER INFORMATION CONTACT: Danny S. Green, Enterprise Records Service (005R1B), Department of Veterans Affairs, 810 Vermont Avenue NW, Washington, DC 20420, (202) 421-1354 or email danny.green2@va.gov. Please refer to “OMB Control No. 2900-0074” in any correspondence.

SUPPLEMENTARY INFORMATION:

Authority: 38 U.S.C. 3034, 3241, 3323, 3471, 3691, and 10 U.S.C. 16136(b). 38 CFR 21.4234, 21.7114, 21.7614, 21.1030, 21.5030(c)(2), 21.5292(e)(2), 21.7030, 21.7530 and 21.9510, and Public Law 115-48.

Title: Request for Change of Program or Place of Training.

OMB Control Number: 2900-0074.

Type of Review: Revision of a currently approved collection.

Abstract: VA uses the information requested on this form to determine the applicant's continued eligibility to educational assistance administered by VA when a change of program or place of training occur.

An agency may not conduct or sponsor, and a person is not required to respond to a collection of information unless it displays a currently valid OMB control number. The Federal Register Notice with a 60-day comment period soliciting comments on this collection of information was published at 85 FR 221 on November 16, 2020, page 73134.

Affected Public: Institutions of Higher Learning.

Estimated Annual Burden: 57,009.

Estimated Average Burden per Respondent: 20 minutes paper; 14 minutes electronic.

Frequency of Response: Once.

Estimated Number of Respondents: 184,895.

By direction of the Secretary.
Danny S. Green,
VA PRA Clearance Officer, Office of Quality, Performance and Risk, Department of Veterans Affairs.

[FR Doc. 2021-01842 Filed 1-27-21; 8:45 am]

BILLING CODE 8320-01-P